NEIGHBORHOOD REINVESTMENT CORPORATION

Sunshine Act Meeting; Finance, Budget and Program Committee Meeting of the Board of Directors

TIME and DATE: 1:00 p.m., Monday, September 9, 2013.

PLACE: 999 North Capitol St NE., Suite 900, Boardroom, Washington, DC 20005.

STATUS: Open.

CONTACT PERSON FOR MORE INFORMATION: Erica Hall, Assistant Corporate Secretary (202) 220-2376; ehall@nw.org.

AGENDA:

I. CALL TO ORDER

II. FY2014 Preliminary Budget Approval

III. Report on Settlement Opportunity

IV. Non-NWO Grant Policy

V. Final DC Move Budget

VI. National Industry Standards for Homeownership Education & Counseling

VII. Quarterly Program Reports

VIII. Financial Report

IX. FY13 Corporate Scorecard Report Update and FY14 Draft Dashboard & Milestones

X. FY 13 Grants Report

XI. Adjournment

Erica Hall,
Assistant Corporate Secretary.

[FR Doc. 2013-21379 Filed 8-28-13; 4:15 pm]

BILLING CODE 7570-02-P